DEPARTMENT OF DEFENSE

Defense Acquisition Regulation System

[Docket Number 2015-0007]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by June 29, 2015.

SUPPLEMENTARY INFORMATION: Title, Associated Forms, and OMB Number: Defense Federal Acquisition Regulation Supplement (DFARS) part 245, Government Property, and the following related clauses and forms: DFARS 252.245-7003, Contractor Property Management System Administration; 252.245-7004, Reporting, Reutilization, and Disposal; DD Form 1348-1A, DoD Single Line item Release/Receipt Document; DD Form 1639, Disposal Determination/Approval; OMB Control Number 0704-0246.

Type of Request: Extension.

Number of Respondents: 1,840.

Responses per Respondent: 14.9, approximately.

Annual Responses: 27,404.

Average Burden per Response: 1 hour, approximately.

Annual Burden Hours: 28,283.

Needs and Uses: This requirement provides for the collection of information related to providing Government property to contractors; contractor use and management of Government property; and reporting, redistribution, and disposal of property.

a. DFARS 245.302(1)(i): DFARS 245.302 concerns contracts with foreign governments or international organizations. Paragraph (1)(i) requires contractors to request and obtain contracting officer approval before using Government property on work for foreign governments and international organizations.

b. DFARS 245.604-3(b) and (d): DFARS 245.604-3 concerns the sale of surplus Government property. Under paragraph (b), a contractor may be directed by the plant clearance officer to issue informal invitations for bids. Under paragraph (d), a contractor may be authorized by the plant clearance officer to purchase or retain Government property at less than cost if the plant clearance officer determines this method is essential for expeditious plant clearance.

c. DFARS 252.245-7003: This clause entitled, Contractor Property Management System Administration, and DFARS 245.105, Contractor's Property Management System Compliance, address the requirement for contractors to respond in writing to initial and final determinations from the administrative contracting officer that identifies deficiencies in the contractor's property management system. The burden for this reporting requirement was previously approved under OMB 0704-0480 and is being incorporated into 0704-0246 in order to consolidate all DFARS part 245 requirements under one OMB clearance.

d. DD Form 1348-1A, DoD Single Line Item Release/Receipt Document, is prescribed at DFARS 245.7001-3 and the form is used when authorized by the plant clearance officer.

e. DD Form 1639, Scrap Warranty, is prescribed in the clause at DFARS 252.245-7004, Reporting, Reutilization, and Disposal. When scrap is sold by the contractor, after Government approval, the purchaser of the scrap material(s) may be required to certify, by signature on the DD Form 1639, that (i) the purchased material will be used only as scrap and (ii), if sold by the purchaser, the purchaser will obtain an identical warranty from the individual buying the scrap from the initial purchaser. The warranty contained in the DD Form 1639 expires by its terms five years from the date of the sale.

Affected Public: Businesses or other for-profit and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the Internet at http://www.regulations.gov as they are received without change, including any personal identifiers or contact information provided. To confirm receipt of your comment(s), please check http://www.regulations.gov approximately two to three days after submission to verify posting (except allow 30 days for posting of comments submitted by mail).

DoD Public Collections Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Amy G. Williams,
Editor, Defense Acquisition Regulations System.

[FR Doc. 2015-12897 Filed 5-28-15; 8:45 am]

BILLING CODE 5001-06-P